DEPARTMENT OF COMMERCE

International Trade Administration

[A-475-836]

Carbon and Alloy Steel Wire Rod from Italy: Amended Preliminary Determination of Sales at Less Than Fair Value

AGENCY: Enforcement and Compliance, International Trade Administration, Department of Commerce.

SUMMARY: On October 31, 2017, the Department published its preliminary determination in the antidumping duty investigation of carbon and alloy steel wire rod (wire rod) from Italy in the Federal Register. The Department is amending this preliminary determination to correct two significant ministerial errors.

DATES: Applicable December 21, 2017.

FOR FURTHER INFORMATION CONTACT: Victoria Cho, AD/CVD Operations, Office VI, Enforcement and Compliance, International Trade Administration, U.S. Department of Commerce, 1401 Constitution Avenue NW, Washington, DC 20230; telephone: (202) 482-5075.

SUPPLEMENTARY INFORMATION:

Background

On October 31, 2017, the Department published the Preliminary Determination in the antidumping duty investigation of wire rod from Italy.¹ On October 31, 2017, Ferriere Nord S.p.A. (Ferriere Nord), a producer and exporter of subject merchandise, timely filed ministerial error allegations concerning the Preliminary Determination and requested, pursuant to 19 CFR 351.224(c)(1), that the Department correct the alleged ministerial errors. No additional parties submitted comments.

¹ See Carbon and Alloy Steel Wire Rod from Italy: Preliminary Affirmative Determination of Sales at Less Than Fair Value, 82 FR 50381 (October 31, 2017) (Preliminary Determination), and accompanying decision memorandum.

Scope of the Investigation

The product covered by this investigation is wire rod from the Italy. For a complete description of the scope of this investigation, see the Appendix.

Significant Ministerial Error

A ministerial error is defined in 19 CFR 351.224(f) as “an error in addition, subtraction, or other arithmetic function, clerical error resulting from inaccurate copying, duplication, or the like, and any other similar type of unintentional error which the Secretary considers ministerial.” Further, 19 CFR 351.224(e) provides that the Department “will analyze any comments received and, if appropriate, correct any significant ministerial error by amending the preliminary determination.” A significant ministerial error is defined as a ministerial error, the correction of which, singly or in combination with other errors, would result in: (1) A change of at least five absolute percentage points in, but not less than 25 percent of, the weighted-average dumping margin calculated in the original (erroneous) preliminary determination; or (2) a difference between a weighted-average dumping margin of zero or de minimis and a weighted-average dumping margin of greater than de minimis or vice versa.²

² See 19 CFR 351.224(g)(1) and (2).

Ministerial Error Allegation

Ferriere Nord timely alleged that the Department made certain significant ministerial errors regarding the calculation of U.S. gross unit price and of general and administrative expenses.³ No other party alleged errors in the Department's Preliminary Determination or commented on Ferriere Nord's allegations of error. After analyzing Ferriere Nord's allegations of error regarding the U.S. gross unit price used to calculate its margin in the Preliminary Determination, we determine that we made certain significant ministerial errors in the Preliminary Determination with respect to our treatment of gross unit prices in both the U.S. and home markets.⁴ However, after analyzing Ferriere Nord's allegations of error regarding the general and administrative expenses used to calculate its margin in the Preliminary Determination, we determine that we did not make a ministerial error. Rather, our calculation of general and administrative expenses was methodological in nature. For a detailed discussion of Ferriere Nord's ministerial error allegations, as well as the Department's analysis of these alleged errors, see the Ministerial Error Memorandum.

³ See Ferriere Nord's October 31, 2017, Submission (Ferriere Nord's Allegation).

⁴ See Memorandum entitled, “Antidumping Duty Investigation on Carbon and Alloy Steel Wire Rod from Italy: Ministerial Error Memorandum,” dated concurrently with, and hereby adopted by, this notice (Ministerial Error Memorandum).

Pursuant to 19 CFR 351.224(g)(1), the Department's errors in the calculation of Ferriere Nord's gross unit prices are significant because their correction results in a change of at least five absolute percentage points in, but not less than 25 percent of, the weighted-average dumping margin calculated in the original preliminary determination (i.e., a change from a weighted-average dumping margin of 22.06 percent to 12.58 percent). Therefore, we are correcting these errors and amending our Preliminary Determination accordingly.⁵

⁵ See Ministerial Error Memorandum.

Amended Preliminary Determination

We are amending the Preliminary Determination to reflect the correction of significant ministerial errors made in the margin calculation for Ferriere Nord in accordance with 19 CFR 351.224(e). In the Preliminary Determination, the Department preliminarily assigned a rate based on entirely on facts available, with an adverse inference (AFA), to Ferriera Valsider, S.p.A. (Ferriera Valsider), the other respondent selected for individual examination. Specifically, in the Preliminary Determination, we applied Ferriere Nord's calculated margin to Ferriera Valsider (i.e., 22.06 percent). The preliminary assigned rate in the Preliminary Determination for Ferriere Nord is no longer the highest rate. As a result of the change in Ferriere Nord's margin for these amended preliminary determination, we are amending the facts available rate for Ferriera Valsider and assigning the corroborated rate of 18.89 percent ⁶ to Ferriere Valsider, which is the sole rate identified in the petition.

⁶ See Ministerial Error Memorandum; see also the Corroboration Memorandum dated concurrent with this notice; AD Investigation Initiation Checklist: Certain Carbon and Alloy Steel Wire Rod from Italy (April 17, 2017).

As discussed in the Preliminary Determination, the Department assigned the rate calculated for Ferriere Nord to all-other producers and exporters.⁷ Thus, we are also amending the “all-others” rate to account for the change in Ferriere Nord's margin.

⁷ See Preliminary Determination, 82 FR at 50382.

As a result of the correction of the ministerial error, the revised weighted-average dumping margins are as follows:

Exporter/ manufacturer | Weighted- average dumping margin (percent)
Ferriere Nord S.p.A./Acciaierie di Verona S.p.A.⁸ | 12.58
Ferriera Valsider S.p.A | 18.89
All Others | 12.58

Amended Cash Deposits and Suspension of Liquidation

The collection of cash deposits and suspension of liquidation will be revised according to the rates established in this amended preliminary determination, in accordance with section 733(d) of the Tariff Act of 1930, as amended (the Act). Because these amended rates result in reduced cash deposit rates, they will be effective retroactively to October 31, 2017, the date of publication of the Preliminary Determination.

⁸ For the purposes of the Preliminary Determination, we collapsed Ferriere Nord and Acciaierie di Verona S.p.A. as a single entity.

International Trade Commission Notification

In accordance with section 733(f) of the Act, we intend to notify the International Trade Commission of our amended preliminary determination.

Disclosure

We intend to disclose the calculations performed to parties in this proceeding within five days after public announcement of the amended preliminary determination, in accordance with 19 CFR 351.224.

This amended preliminary determination is issued and published in accordance with sections 733(f) and 777(i) of the Act and 19 CFR 351.224(e).

Dated: December 15, 2017.
Gary Taverman,
Deputy Assistant Secretary for Antidumping and Countervailing Duty Operations, performing the non-exclusive functions and duties of the Assistant Secretary for Enforcement and Compliance.

Appendix

Scope of the Investigation

The merchandise covered by this investigation are certain hot-rolled products of carbon steel and alloy steel, in coils, of approximately round cross section, less than 19.00 mm in actual solid cross-sectional diameter. Specifically excluded are steel products possessing the above-noted physical characteristics and meeting the Harmonized Tariff Schedule of the United States (HTSUS) definitions for (a) stainless steel; (b) tool steel; (c) high-nickel steel; (d) ball bearing steel; or (e) concrete reinforcing bars and rods. Also excluded are free cutting steel (also known as free machining steel) products (i.e., products that contain by weight one or more of the following elements: 0.1 percent of more of lead, 0.05 percent or more of bismuth, 0.08 percent or more of sulfur, more than 0.04 percent of phosphorous, more than 0.05 percent of selenium, or more than 0.01 percent of tellurium). All products meeting the physical description of subject merchandise that are not specifically excluded are included in this scope.

The products under investigation are currently classifiable under subheadings 7213.91.3011, 7213.91.3015, 7213.91.3020, 7213.91.3093, 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS may also be included in this scope if they meet the physical description of subject merchandise above. Although the HTSUS subheadings are provided for convenience and customs purposes, the written description of the scope of these proceedings is dispositive.

[FR Doc. 2017-27502 Filed 12-20-17; 8:45 am]

BILLING CODE 3510-DS-P